DEPARTMENT OF ENERGY

Federal Energy Regulatory Commission

[Docket No. RP99-220-009]

Great Lakes Gas Transmission Limited Partnership; Notice of Negotiated Rate Contract and Non-Conforming Service Agreement

October 17, 2001.

Take notice that on October 12, 2001, Great Lakes Gas Transmission Limited Partnership (Great Lakes) filed for disclosure, a transportation service agreement pursuant to Great Lakes' Rate Schedule FT entered into by Great Lakes and Engage Energy America LLC (Engage) (FT Service Agreement). The FT Service Agreement being filed reflects a negotiated rate arrangement between Great Lakes and Engage commencing December 1, 2001. Engage obtained the capacity as the successful bidder in an open season held for the capacity. The FT Agreement also constitutes a non-conforming service agreement as contemplated in § 154.1(d) of the Commission's regulations.

Great Lakes states that the FT Service Agreement is being filed to implement a negotiated rate contract as required by both Great Lakes' negotiated rate tariff provisions and the Commission's Statement of Policy on Alternatives to Traditional Cost-of-Service Ratemaking for Natural Gas Pipelines and Regulation of Negotiated Transportation Services of Natural Gas Pipelines, issued January 31, 1996, at Docket Nos. RM95-6-000 and RM96-7-000.

Great Lakes also states that the FT Service Agreement is a non-conforming service agreement in that it deviates in a material aspect from the form of service agreement in Great Lakes' tariff. Accordingly, Great Lakes has also filed Tenth Revised Sheet No. 1 and Original Sheet No. 90 for inclusion in Great Lakes' FERC Gas Tariff, Second Revised Volume No. 1, identifying the FT Service Agreement as a non-conforming service agreement as required by § 154.112(b) of the Commission's regulations, effective December 1, 2001.

Any person desiring to be heard or to protest said filing should file a motion to intervene or a protest with the Federal Energy Regulatory Commission, 888 First Street, NE., Washington, DC 20426, in accordance with sections 385.214 or 385.211 of the Commission's Rules and Regulations. All such motions or protests must be filed on or before October 24, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26604 Filed 10-22-01; 8:45 am]

BILLING CODE 6717-01-P